DEPARTMENT OF ENERGY

Federal Energy Regulatory Commission

Combined Notice of Filings #1

Take notice that the Commission received the following electric corporate filings:

Docket Numbers: EC15-169-000.

Applicants: MDU Resources Group, Inc., Thunder Spirit Wind, LLC, Ace Wind LLC.

Description: Supplement to July 14, 2015 Application of MDU Resources Group, Inc., et al. for Authorization Under Section 203 of the Federal Power Act for Disposition of Jurisdiction Facilities.

Filed Date: 10/6/15.

Accession Number: 20151006-5160.

Comments Due: 5 p.m. ET 10/16/15.

Docket Numbers: EC16-1-000.

Applicants: Emera Incorporated, TECO Energy, Inc.

Description: Application under FPA Section 203 of Emera Incorporated and TECO Energy, Inc.

Filed Date: 10/5/15.

Accession Number: 20151005-5344.

Comments Due: 5 p.m. ET 10/26/15.

Docket Numbers: EC16-2-000.

Applicants: AltaGas Power Holdings (U.S.) Inc., GWF Energy LLC.

Description: Joint Application for Authorization under Section 203 of the Federal Power Act, Request for Expedited Consideration and Confidential Treatment of GWF Energy LLC and AltaGas Power Holdings (U.S.) Inc.

Filed Date: 10/5/15.

Accession Number: 20151005-5350.

Comments Due: 5 p.m. ET 10/26/15.

Docket Numbers: EC16-3-000.

Applicants: Goodwell Wind Project, LLC.

Description: Application for Authorization under Section 203 of the Federal Power Act, Request for Expedited Consideration and Confidential Treatment of Goodwell Wind Project, LLC.

Filed Date: 10/6/15.

Accession Number: 20151006-5235.

Comments Due: 5 p.m. ET 10/27/15.

Docket Numbers: EC16-4-000.

Applicants: Eden Solar LLC, Land of the Sky MT, LLC.

Description: Application for Authorization under Section 203 of the Federal Power Act, Request for Expedited Consideration and Confidential Treatment of Eden Solar, LLC and Land of the Sky MT, LLC.

Filed Date: 10/6/15.

Accession Number: 20151006-5280.

Comments Due: 5 p.m. ET 10/27/15.

Take notice that the Commission received the following exempt wholesale generator filings:

Docket Numbers: EG16-4-000.

Applicants: Greenidge Generation LLC.

Description: Self-Certification of EG or FC of Greenidge Generation LLC.

Filed Date: 10/6/15.

Accession Number: 20151006-5290.

Comments Due: 5 p.m. ET 10/27/15.

Take notice that the Commission received the following electric rate filings:

Docket Numbers: ER10-2074-005; ER10-2097-007.

Applicants: Kansas City Power & Light Company, KCP&L Greater Missouri Operations Company.

Description: Supplement to June 30, 2015 Updated Market Power Analysis for Southwest Power Pool, Inc. Balancing Area Authority of Kansas City Power & Light Company, et al.

Filed Date: 10/6/15.

Accession Number: 20151006-5217.

Comments Due: 5 p.m. ET 10/27/15.

Docket Numbers: ER15-2114-001.

Applicants: PJM Interconnection, L.L.C., Transource West Virginia, LLC.

Description: Compliance filing: Transource submits a compliance filing on Attachment H-26 & 26A per 9/4/15 Order to be effective 9/5/2015.

Filed Date: 10/5/15.

Accession Number: 20151005-5295.

Comments Due: 5 p.m. ET 10/26/15.

Docket Numbers: ER16-26-000.

Applicants: Tucson Electric Power Company.

Description: Section 205(d) Rate Filing: Rate Schedule Cancellations to be effective 12/7/2015.

Filed Date: 10/6/15.

Accession Number: 20151006-5211.

Comments Due: 5 p.m. ET 10/27/15.

Docket Numbers: ER16-27-000.

Applicants: Northern States Power Company, a Minnesota corporation.

Description: Section 205(d) Rate Filing: 2015-10-6 NSP-GFLS-TSA-436-0.0.0-Filing to be effective 1/1/2015.

Filed Date: 10/6/15.

Accession Number: 20151006-5220.

Comments Due: 5 p.m. ET 10/27/15.

Docket Numbers: ER16-28-000.

Applicants: PacifiCorp.

Description: Notice of Termination of Los Angeles Department of Water and Power Power Purchase Agreement Rate Schedule 301 of PacifiCorp.

Filed Date: 10/6/15.

Accession Number: 20151006-5272.

Comments Due: 5 p.m. ET 10/27/15.

Docket Numbers: ER16-29-000.

Applicants: Greenidge Generation LLC.

Description: Baseline eTariff Filing: Application for MBR to be effective 12/7/2015.

Filed Date: 10/6/15.

Accession Number: 20151006-5275.

Comments Due: 5 p.m. ET 10/27/15.

Take notice that the Commission received the following electric securities filings:

Docket Numbers: ES15-68-000.

Applicants: Kentucky Utilities Company.

Description: Revised Exhibits C, D, and E to September 4, 2015 Application under Section 204 of the Federal Power Act of Kentucky Utilities Company.

Filed Date: 10/6/15.

Accession Number: 20151006-5238.

Comments Due: 5 p.m. ET 10/27/15.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 6, 2015.
Nathaniel J. Davis, Sr.,
Deputy Secretary.

[FR Doc. 2015-25914 Filed 10-9-15; 8:45 am]

BILLING CODE 6717-01-P